SOCIAL SECURITY ADMINISTRATION

20 CFR Part 401

[Docket No. SSA-2018-0004]

RIN 0960-AH97

Security and Suitability Files

AGENCY: Social Security Administration.

ACTION: Final rule.

SUMMARY: We are issuing a final rule to exempt a system of records entitled Security and Suitability Files. This final rule also removes two systems of records listed in our exemptions, but which do not exist, and will replace them with a new exemption for this specified system of records from specific provisions of the Privacy Act.¹

¹ 5 U.S.C. 552a(k)(5).

DATES: This rule is October 3, 2019.

FOR FURTHER INFORMATION CONTACT: Jasson Seiden, Government Information Specialist, Privacy Implementation Division, Office of Privacy and Disclosure, Office of the General Counsel, SSA, Room G-401 West High Rise, 6401 Security Boulevard, Baltimore, Maryland 21235-6401, telephone: (410) 597-4307, email: Jasson.Seiden@ssa.gov. For information on eligibility or filing for benefits, call our national toll-free number, 1-800-772-1213 or TTY 1-800-325-0778, or visit our internet site, Social Security Online, at http://www.socialsecurity.gov.

SUPPLEMENTARY INFORMATION:

Background

On November 15, 2018, we published in the Federal Register a System of Records Notice ² to provide public notice of our intent to establish a new system of records, Security and Suitability Files (60-0377). On the same day, we also published a Notice of Proposed Rulemaking (NPRM) ³ proposing to add Security and Suitability Files to our existing list of systems of records exempt from specific Privacy Act provisions.

² 83 FR 57520.

³ 83 FR 57366.

Public Comments and Discussion

In the NPRM, we provided a 30-day comment period, which ended on December 17, 2018. We received no comments.

Regulatory Procedures

Executive Order 12866, as Supplemented by Executive Order 13563

We consulted with the Office of Management and Budget (OMB) and determined this final rule does not meet the criteria for a significant regulatory action under Executive Order 12866, as supplemented by Executive Order 13563.

We also determined that this proposed rule meets the plain language requirement of Executive Order 12866.

Executive Order 13132 (Federalism)

We analyzed this rule in accordance with the principles and criteria established by Executive Order 13132, and we determined that the rule will not have sufficient Federalism implications to warrant the preparation of a Federalism assessment. We also determined that this rule will not preempt any State law or State regulation or affect the States' abilities to discharge traditional State governmental functions.

Executive Order 12372 (Intergovernmental Review)

The regulations effectuating Executive Order 12372 regarding intergovernmental consultation on Federal programs and activities apply to this rule.

Regulatory Flexibility Act

We certify that this rule will not have a significant economic impact on a substantial number of small entities because it affects individuals only. Therefore, the Regulatory Flexibility Act, as amended, does not require us to prepare a regulatory flexibility analysis.

E.O. 13771

This rule is not subject to the requirements of Executive Order 13771 because it is administrative in nature and results in no more than de minimis costs.

Paperwork Reduction Act

These rules do not create any new or affect any existing collections and, therefore, do not require OMB approval under the Paperwork Reduction Act.

(Catalog of Federal Domestic Assistance Program Nos. 96.001, Social Security—Disability Insurance; 96.002, Social Security—Retirement Insurance; 96.004, Social Security—Survivors Insurance; and 96.006, Supplemental Security Income).

List of Subjects in 20 CFR Part 401

Privacy and disclosure of official records and information.

Andrew Saul,
Commissioner of Social Security.

For the reasons stated in the preamble, we amend subpart B of part 401 of title 20 of the Code of Federal Regulations as set forth below:

PART 401—PRIVACY AND DISCLOSURE OF OFFICIAL RECORDS AND INFORMATION

Subpart B—[Amended].

1. The authority citation for subpart B of part 401 continues to read as follows:

Authority: Secs. 205, 702(a)(5), 1106, and 1141 of the Social Security Act (42 U.S.C. 405, 902(a)(5), 1306, and 1320b-11); 5 U.S.C. 552 and 552a; 8 U.S.C. 1360; 26 U.S.C. 6103; 30 U.S.C. 923.

2. In § 401.85, revise paragraph (b)(2)(iii)(A) and remove and reserve paragraph (b)(2)(iii)(B).

The revision reads as follows:

§ 401.85 Exempt systems.

* * * * *

(b) * * *

(2) * * *

(iii) * * *

(A) Security and Suitability Files.

* * * * *

[FR Doc. 2019-18892 Filed 8-30-19; 8:45 am]

BILLING CODE 4191-02-P